DEPARTMENT OF ENERGY

[Number DE-PS36-02GO92006]

Renewable Energy Development On Tribal Lands

AGENCY: Golden Field Office, Department of Energy.

ACTION: Notice of issuance of solicitation for financial assistance applications.

SUMMARY: The U.S. Department of Energy (DOE), pursuant to the DOE Financial Assistance Rules, 10 CFR 600.8, is announcing its intention to solicit applications for the development of renewable energy on Tribal lands. Through cooperative agreements, DOE intends to provide financial support to conduct feasibility studies and share in the cost of implementing sustainable renewable energy installations on Tribal lands. Under the solicitation, DOE is soliciting Applications from Federally-recognized Tribes or Alaskan Native Corporations (hereafter referred to as “Tribes”) to either: (1) conduct feasibility studies for the development of economically sustainable renewable energy installations on Tribal Lands; or (2) implement sustainable renewable energy development projects.

DATES: Issuance of the solicitation is planned for the end of February 2002.

ADDRESSES: A copy of the solicitation, once it is issued, will be accessible through the Golden Field Office Home Page at http://www.golden.doe.gov/businessopportunities.html under “Solicitations.” The Golden Home Page will provide direct access to the solicitation and provide instructions on using the DOE Industry Interactive Procurement System (IIPS) Web site. The solicitation can also be obtained directly through IIPS at http://e-center.doe.gov/ by browsing opportunities by Program Office for those solicitations issued by the Golden Field Office. DOE will not issue hard copies of the solicitation.

FOR FURTHER INFORMATION CONTACT: Ruth E. Adams, Contracting Officer, via facsimile at 303-275-4788 or electronically at ruth_adams@nrel.gov. Responses to questions will be made by amendment to the solicitation and posted on the DOE Industry Interactive Procurement System (IIPS) Web site.

SUPPLEMENTARY INFORMATION: DOE's Tribal Energy Program promotes tribal energy self-sufficiency and fosters employment and economic development on Tribal Lands through financial assistance to Native American Tribes and Alaskan Native Corporations for feasibility studies and renewable energy development projects. Under this solicitation, DOE will be soliciting Applications from Federally-recognized Tribes or Alaskan Native Corporations (hereafter referred to as “Tribes”) to either: (1) conduct feasibility studies for the development of economically sustainable renewable energy installations on Tribal Lands; or (2) implement sustainable renewable energy development projects.

Eligible technologies under this solicitation include, but are not limited to the following: photovoltaic, concentrating solar power, solar thermal systems (i.e., active or passive solar technologies for space or water heating, or power generation technologies), wind, biomass power, hydro, geothermal electric generation, geothermal resources for direct heating applications, and other renewable hybrid systems. Applications may include, but are not limited to, the use of renewable energy for: direct electrical generation, building uses, water pumping, or other grid connected or off-grid power uses.

DOE will only consider Applications from Federally-recognized Tribes on whose Tribal Lands the project will be located. Applications from a consortium of Tribes will be accepted but must be submitted by a single Tribe representing the consortium. A letter of commitment from an authorized representative of the Tribe (Chief, Governor, President, Chairperson or other representative able to commit the Tribe), as well as from each participating Tribe or project Participant, is required as a part of the Application. For Development Project Applications, a Tribal Council Resolution is preferable to a letter of commitment, but a letter of commitment accompanied by a plan and schedule to obtain a Resolution, will be accepted.

Awards under this solicitation will be cooperative agreements with terms of one to three years depending on the type and scope of the proposed project. Subject to funding availability, the total DOE funding available under this solicitation will be approximately $2,500,000. DOE anticipates selecting 10 to 15 Renewable Energy Feasibility Study Applications and 3 to 5 Renewable Energy Development Project Applications for negotiation toward Award. If funding is appropriated in the Government's Fiscal Year 2003 (October 1, 2002 through September 30, 2003), opportunities to apply for development projects as well as funding for additional feasibility studies will be provided.

No cost share is required in order to be considered for feasibility study awards under this solicitation. For development projects, a minimum cost share of 20% of total project costs is required to be considered for award. However, applicants that propose more than the required cost share will be given additional consideration in the selection process. All applicant cost sharing must come from non-Federal sources (i.e., private, state or local Government, or any other sources that were not originally derived from Federal funds).

A pre-application conference will be held on March 20, 2002 from 8:00 a.m. to 12:00 noon at the Red Lion Hotel Denver Central, 4040 Quebec Street, Denver, Colorado 80216. For responses at the Pre-Application conference, potential Applicants should submit questions in writing by March 12, 2002. The solicitation will provide information on how to transmit questions. All interested parties are encouraged to attend the pre-application conference. To confirm your participation or obtain additional information, please contact the Solicitation Coordinator at (303) 275-4716 or via facsimile at (303) 275-4788. The pre-application conference is being held in conjunction with the Council of Energy Resource Tribes (CERT) Sustainability Conference. For additional information on the CERT Sustainability Conference to be held March 21-22, 2002 visit http://www.certredearth.com/.

Solicitation number DE-PS36-02GO92006 will include complete information including technical aspects, funding, application preparation instructions, evaluation criteria, and other factors that will be considered when selecting applications for funding. Issuance of the solicitation is planned for the end of February 2002, with applications due approximately 70 days after the solicitation has been issued.

Issued in Golden, Colorado, on February 11, 2002.
Jerry L. Zimmer,
Director, Office of Acquisition and Financial Assistance.

[FR Doc. 02-4047 Filed 2-19-02; 8:45 am]

BILLING CODE 6450-01-P